DEPARTMENT OF HEALTH AND HUMAN SERVICES

[Document Identifier: OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Evaluation of the National Bone Health Campaign Pilot Site Project—OMB No. 0990-NEW—Office on Women's Health (OWH)

Abstract: The Office on Women's Health (OWH) is requesting clearance for forms to evaluate the implementation and effectiveness of the revised BodyWorks program; an obesity prevention program targeting parents and girls that highlights behaviors known to improve bone health. Using a technical assistance model, the revised BodyWorks program will be implemented by local coalitions in three pilot sites. Clearance is also requested for forms to assess the success of this technical assistance model.

Estimated Annualized Burden Table
Type of respondent | Form name | Number of respondents | Number of responses per respondent | Average burden per response (in hours) | Total burden (in hours)
Parent/Caregiver participant in the Revised BodyWorks program | Parent/Caregiver Pre test Questionnaire | 171 | 1 | 30/60 | 85.5
| Parent/Caregiver Post test Questionnaire | 153 | 1 | 30/60 | 76.5
| Parent/Caregiver Session Evaluation Forms (10 forms) | 153 | 10 | 3/60 | 76.5
Parent/Caregiver Revised BodyWorks program comparison group participant | Parent/Caregiver Pre test Questionnaire | 63 | 1 | 30/60 | 31.5
| Parent/Caregiver Post test Questionnaire | 50 | 1 | 30/60 | 25
Adolescent participant in the Revised BodyWorks program | Adolescent Pretest Questionnaire | 228 | 1 | 30/60 | 114
| Adolescent Post test Questionnaire | 204 | 1 | 30/60 | 102
| Adolescent Session Evaluation Forms (10 forms) | 204 | 10 | 3/60 | 102
Adolescent Revised BodyWorks program comparison group participant | Adolescent Pre test Questionnaire | 63 | 1 | 30/60 | 31.5
| Adolescent Post test Questionnaire | 50 | 1 | 30/60 | 25
Trainers of the Revised BodyWorks program | Facilitator Feedback Forms (10 forms) | 22 | 10 | 5/60 | 18.3
Coalition leaders, members, and site coordinators | Coalition Pre test Survey | 86 | 1 | 20/60 | 28.7
| Coalition Post test Survey | 72 | 1 | 30/60 | 36
Total Hours |  |  |  |  | 752.5

John Teeter,
Office of the Secretary, Paperwork Reduction Act Reports Clearance Officer.

[FR Doc. E8-28389 Filed 11-28-08; 8:45 am]

BILLING CODE 4150-33-P